DEPARTMENT OF HOMELAND SECURITY

[Docket No. DHS-2017-0015]

Notice of Request for Revision to and Extension of a Currently Approved Information Collection for Chemical-Terrorism Vulnerability Information

AGENCY: National Protection and Programs Directorate, DHS.

ACTION: 60-Day Notice and request for comments; Revision of Information Collection Request: 1670-0015.

SUMMARY: The Department of Homeland Security (DHS or the Department), National Protection and Programs Directorate (NPPD), Office of Infrastructure Protection (IP), Infrastructure Security Compliance Division (ISCD), will submit the following Information Collection Request to the Office of Management and Budget (OMB) for review and clearance in accordance with the Paperwork Reduction Act of 1995. DHS proposes to remove five of the six instruments previously approved to support the Chemical-terrorism Vulnerability Information (CVI) program under the Chemical Facility Anti-terrorism Standards (CFATS) regulations, 6 CFR 27.400. DHS also proposes to extend this collection with revisions to reduce the estimated burden for the remaining instrument in this collection.

DATES: Comments are encouraged and will be accepted until June 19, 2017. This process is conducted in accordance with 5 CFR 1320.8.

ADDRESSES: Interested persons are invited to submit comments on the proposed revision to, and extension of, this approved information collection through the Federal eRulemaking Portal at http://www.regulations.gov. All submissions received must include the words “Department of Homeland Security” and the docket number DHS-2017-0015. Except as provided below, comments received will be posted without alteration at http://www.regulations.gov, including any personal information provided.

Comments that include trade secrets, confidential commercial or financial information, CVI,¹ Sensitive Security Information (SSI),² or Protected Critical Infrastructure Information (PCII) ³ should not be submitted to the public regulatory docket. Please submit such comments separately from other comments in response to this notice. Comments containing trade secrets, confidential commercial or financial information, CVI, SSI, or PCII should be appropriately marked and packaged in accordance with applicable requirements and submitted by mail to the DHS/NPPD/IP/ISCD CFATS Program Manager at the Department of Homeland Security, 245 Murray Lane SW., Mail Stop 0610, Arlington, VA 20528-0610.

¹ For more information about CVI see 6 CFR 27.400 and the CVI Procedural Manual at http://www.dhs.gov/xlibrary/assets/chemsec_cvi_proceduresmanual.pdf.

² For more information about SSI see 49 CFR part 1520 and the SSI Program Web page at http://www.tsa.gov.

³ For more information about PCII see 6 CFR part 29 and the PCII Program Web page at http://www.dhs.gov/protected-critical-infrastructure-information-pcii-program.

FOR FURTHER INFORMATION CONTACT: Questions and requests for additional information may be directed to the CFATS Program Manager via email at cfats@dhs.gov or telephone at (866) 323-2957.

SUPPLEMENTARY INFORMATION: Section 550 of the Homeland Security Appropriations Act of 2007, Public Law 109-295 (2006), provided the Department with the authority to regulate the security of high-risk chemical facilities. On April 9, 2007, the Department issued an Interim Final Rule (IFR), implementing this statutory mandate at 72 FR 17688. In December of 2014, the President signed into law the Protecting and Securing Chemical Facilities from Terrorist Attacks Act of 2014 (the CFATS Act of 2014), Public Law 113-254, which authorized the Chemical Facility Anti-Terrorism Standards program in the Homeland Security Act of 2002, as amended, Public Law 107-296.⁴

⁴ Section 2 of the CFATS Act of 2014 adds a new Title XXI to the Homeland Security Act of 2002. Title XXI contains new sections numbered 2101 through 2109. Citations to the Homeland Security Act of 2002 throughout this document reference those sections of Title XXI. In addition to being found in amended versions of the Homeland Security Act of 2002, those sections of Title XXI can also be found in sec. 2 of the CFATS Act of 2014, or in 6 U.S.C. 621-629.

The CFATS regulation (available at 6 CFR part 27) govern the security at covered chemical facilities that have been determined by the Department to be at high risk for terrorist attack. See 6 CFR part 27. CFATS represents a national-level effort to minimize terrorism risk to such facilities. Its design and implementation balance maintaining economic vitality with securing facilities and their surrounding communities. The regulations were designed, in collaboration with the private sector and other stakeholders, to take advantage of protective measures already in place and to allow facilities to employ a wide range of tailored measures to satisfy the regulations' Risk-Based Performance Standards.

In 6 CFR 27.400, CFATS establishes the requirements that covered persons must follow to safeguard certain documents and other information developed under the regulations from unauthorized disclosure. This information is identified as “Chemical-terrorism Vulnerability Information” and, by law, receives protection from public disclosure and misuse. The instruments within this collection will be used to manage the CVI program in support of CFATS. The current information collection for the CVI program (IC 1670-0015) will expire on September 30, 2017.⁵

⁵ The current information collection for CVI may be found at https://www.reginfo.gov/public/do/PRAViewICR?ref_nbr=201303-1670-003.

The Department proposes the following revisions from the previously approved collection:

• Removal of the following instruments: (1) “Determination of CVI”; (2) Determination of a “Need to Know” by a Public Official”; (3) “Disclosure of CVI Information; (4) Notification of Emergency or Exigent Circumstances”; and (5) “Tracking Log for CVI Received” from this collection. As required by 5 CFR 1320.5, the Department reevaluated the continued need for each instrument in this collection. This evaluation resulted in a finding these instruments have historically been used rarely.

The Department expects that in many instances when the Department may need or want to collect information regarding emergency and/or unauthorized disclosure of CVI, the collection would not be covered by the Paperwork Reduction Act because the information would be collected during the conduct of an investigation involving specific individuals or entities. See 44 U.S.C. 3518(c)(2) and 5 CFR 1320.4(a). The Department now encourages State and local officials to gain information regarding chemical facilities in their jurisdictions from the Department rather than from the facilities. Accordingly, these officials are now generally directed to IP Gateway. The information that must be collected routinely in order for such officials to gain access to IP Gateway has been authorized under OMB Control No. 1670-0009.

• A reduction of the number of respondents for the CVI Authorization instrument from 30,000 to 20,000. This estimate is based on historical data and the anticipated impact of the Department's revision of its Chemical Security Assessment Tool (CSAT) and enhancement of its risk tiering methodology for the CFATS program. See 81 FR 47001 (Jul. 20, 2016).

The Department's Methodology in Estimating the Burden for the Chemical-Terrorism Vulnerability Information Authorization Number of Respondents

The current information collection estimated that 30,000 respondents (rounded estimate) would submit a request for a CVI Authorization annually. Based on data collected between CY 2014-2016, 13,115 respondents on average submitted information to obtain CVI Authorization on an annual basis. Historical data also indicates that the peak number of respondents for this instrument was 18,727 in 2008. However, the Department expects that annual usage in the next three years may increase from the CY 2014-2016 average based on new users who must become CVI authorized to submit Top-Screens following the Department's revision of CSAT and enhancement of its risk tiering methodology. See 81 FR 47001 (Jul. 20, 2016). For these reasons, the Department has revised the estimated number of respondents to 20,000.

Estimated Time per Respondent

In the current information collection, the estimated time per respondent to prepare and submit a CVI Authorization is one hour. Based on data collected between Calendar Year (CY) 2014-2016 by the CSAT system measuring time spent by users to complete this instrument, the average response time is 0.50 hours (30 minutes). Based upon this data, the Department proposes to reduce the estimated time per respondent to prepare and submit this instrument to 0.50 hours (30 minutes).

Annual Burden Hours

The annual burden hours for the CVI Authorization is [0.50 hours × 20,000 respondents × 1 response per respondent], which equals 10,000 hours.

Total Capital/Startup Burden Cost

The Department provides access to CSAT free of charge and assumes that each respondent already has computer hardware and access to the internet for basic business needs. Therefore, there are no annualized capital or start-up costs incurred by chemical facilities of interest or high-risk chemical facilities for this information collection.

Total Recordkeeping Burden

There are no recordkeeping burden costs incurred by chemical facilities of interest or high-risk chemical facilities for this information collection.

Total Annual Burden Cost

The Department assumes that the majority of individuals who will complete this instrument are Site Security Officers (SSOs), although a smaller number of other individuals may also complete this instrument (e.g., Federal, State, and local government employees and contractors). For the purpose of this notice, the Department maintains this assumption. Therefore, to estimate the total annual burden, the Department multiplied the annual burden of 10,000 hours by the average hourly wage rate of SSOs of $67.72 per hour. Therefore, the total annual burden cost for the CVI Authorization instrument is $677,200 [10,000 total annual burden hours × $67.72 per hour].

Analysis

Agency: Department of Homeland Security, National Protection and Programs Directorate, Office of Infrastructure Protection, Infrastructure Security Compliance Division.

Title: CFATS Chemical-terrorism Vulnerability Information.

OMB Number: 1670-0015.

Instrument: Chemical-terrorism Vulnerability Information Authorization.

Frequency: “On occasion” and “Other”.

Affected Public: Business or other for-profit.

Number of Respondents: 20,000 respondents (rounded estimate).

Estimated Time per Respondent: 0.50 hours.

Total Burden Hours: 10,000 annual burden hours.

Total Burden Cost (capital/startup): $0.

Total Recordkeeping Burden: $0.

Total Burden Cost: $677,200.

David Epperson,
Chief Information Officer, National Protection and Programs Directorate, Department of Homeland Security.

[FR Doc. 2017-07927 Filed 4-18-17; 8:45 am]

BILLING CODE 9110-9P-P